DEPARTMENT OF COMMERCE

Foreign-Trade Zones Board

[B-50-2016]

Foreign-Trade Zone 193—Pinellas County, Florida; Application for Reorganization and Expansion Under Alternative Site Framework

An application has been submitted to the Foreign-Trade Zones (FTZ) Board by Pinellas County, Florida, grantee of FTZ 193, requesting authority to reorganize and expand the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on August 2, 2016.

FTZ 193 was approved by the FTZ Board on February 17, 1993 (Board Order 630, 58 FR 11833, March 1, 1993). The current zone includes the following sites: Site 1 (1,771 acres)—St Petersburg-Clearwater International Airport Complex, 14700 Terminal Boulevard, Clearwater; Site 2 (3 acres)—Port of St. Petersburg, 250 8th Avenue SE., St. Petersburg; Site 3 (96 acres)—Pinellas Science, Technology & Research Center, Bryan Dairy and Belcher Roads, Largo; Temporary Site 4 (13 acres, expires 8/31/2017)—HIT Promotional Products, Inc., 7150 Bryan Dairy Road, Largo; Temporary Site 5 (3 acres, expires 8/31/2017)—HIT Promotional Products, Inc., 8155 Bryan Dairy Road, Largo; Temporary Site 6 (4.5 acres, expires 8/31/2017)—HIT Promotional Products, Inc., 3320 122nd Avenue North, Largo; and, Temporary Site 7 (3.09 acres, expires 8/31/2017)—HIT Promotional Products, Inc., 10810 72nd Street, Largo.

The grantee's proposed service area under the ASF would be Pinellas, Hernando and Pasco Counties, Florida, as described in the application. If approved, the grantee would be able to serve sites throughout the service area based on companies' needs for FTZ designation. The application indicates that the proposed service area is within and adjacent to the St. Petersburg Customs and Border Protection port of entry.

The applicant is requesting authority to reorganize its existing zone to include existing Sites 1, 2 and 3 as “magnet” sites and Sites 4, 5, 6 and 7 would become “usage-driven” sites. The ASF allows for the possible exemption of one magnet site from the “sunset” time limits that generally apply to sites under the ASF, and the applicant proposes that Site 1 be so exempted. The application would have no impact on FTZ 193's previously authorized subzone.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is October 7, 2016. Rebuttal comments in response to material submitted during the foregoing period may be submitted during the subsequent 15-day period to October 24, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: August 2, 2016.
Andrew McGilvray,
Executive Secretary.

[FR Doc. 2016-18782 Filed 8-5-16; 8:45 am]

BILLING CODE 3510-DS-P